DEPARTMENT OF TRANSPORTATION

Federal Aviation Administration

14 CFR Part 39

[Docket No. FAA-2022-0453; Project Identifier MCAI-2020-01557-T; Amendment 39-22091; AD 2022-13-05]

RIN 2120-AA64

Airworthiness Directives; Bombardier, Inc., Airplanes

AGENCY: Federal Aviation Administration (FAA), Department of Transportation (DOT).

ACTION: Final rule.

SUMMARY: The FAA is adopting a new airworthiness directive (AD) for certain Bombardier, Inc., Model BD-700-1A10 and BD-700-1A11 airplanes. This AD was prompted by reports of the loss of all air data system information provided to the flightcrew during flight; the air data system information was recovered as the airplane descended to lower altitudes. This AD requires revising the existing airplane flight manual (AFM) to update the Unreliable Airspeed and Landing Distance Factor emergency procedures, which provide instructions for the flightcrew to stabilize the airspeed and altitude. The FAA is issuing this AD to address the unsafe condition on these products.

DATES: This AD is effective August 11, 2022.

The Director of the Federal Register approved the incorporation by reference of certain publications listed in this AD as of August 11, 2022.

ADDRESSES: For service information identified in this final rule, contact Bombardier Business Aircraft Customer Response Center, 400 Côte-Vertu Road West, Dorval, Québec H4S 1Y9, Canada; telephone 1-514-855-2999; email ac.yul@aero.bombardier.com; internet https://www.bombardier.com. You may view this service information at the FAA, Airworthiness Products Section, Operational Safety Branch, 2200 South 216th St., Des Moines, WA. For information on the availability of this material at the FAA, call 206-231-3195. It is also available on the internet at https://www.regulations.gov by searching for and locating Docket No. FAA-2022-0453.

Examining the AD Docket

You may examine the AD docket on the internet at https://www.regulations.gov by searching for and locating Docket No. FAA-2022-0453; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: Chirayu Gupta, Aerospace Engineer, Mechanical Systems and Administrative Services Section, FAA, New York ACO Branch, 1600 Stewart Avenue, Suite 410, Westbury, NY 11590; telephone 516-228-7300; email 9-avs-nyaco-cos@faa.gov.

SUPPLEMENTARY INFORMATION:

Background

Transport Canada Civil Aviation (TCCA), which is the aviation authority for Canada, has issued TCCA AD CF-2020-50, dated November 20, 2020 (TCCA AD CF-2020-50) (also referred to after this as the Mandatory Continuing Airworthiness Information, or the MCAI), to correct an unsafe condition for certain Bombardier, Inc., Model BD-700-1A10 and BD-700-1A11 airplanes. You may examine the MCAI in the AD docket at https://www.regulations.gov by searching for and locating Docket No. FAA-2022-0453.

The FAA issued a notice of proposed rulemaking (NPRM) to amend 14 CFR part 39 by adding an AD that would apply to for certain Bombardier, Inc., Model BD-700-1A10 and BD-700-1A11 airplanes. The NPRM published in the Federal Register on April 11, 2022 (87 FR 21047). The NPRM was prompted by reports of the loss of all air data system information provided to the flightcrew during flight; the air data system information was recovered as the airplane descended to lower altitudes. The NPRM proposed to require revising the existing AFM to update the Unreliable Airspeed and Landing Distance Factor emergency procedures, which provide instructions for the flightcrew to stabilize the airspeed and altitude. The FAA is issuing this AD to address loss of all air data system information, which could lead to loss of continued safe flight and landing of the airplane. See the MCAI for additional background information.

Discussion of Final Airworthiness Directive

Comments

The FAA received no comments on the NPRM or on the determination of the cost to the public.

Conclusion

The FAA reviewed the relevant data and determined that air safety requires adopting this AD as proposed. Except for minor editorial changes, this AD is adopted as proposed in the NPRM. None of the changes will increase the economic burden on any operator. Accordingly, the FAA is issuing this AD to address the unsafe condition on these products.

Related Service Information Under 1 CFR Part 51

Bombardier has issued the following service information. This service information describes procedures for stabilizing the airspeed and altitude of the airplane. These documents are distinct since they apply to different airplane models.

• Unreliable Airspeed procedure, Section 03-12, Primary Flight Displays, Chapter 3—Emergency Procedures, of the Bombardier Global Express AFM, Publication No. CSP 700-1, Revision 107, dated February 22, 2021. (For obtaining the procedures for Bombardier Global Express AFM, Publication No. CSP 700-1, use Document Identification No. GL 700 AFM-1.)

• Instruments procedure, Landing Distance Factors section, of the Emergency Procedures section of Supplement 20—Operations at Airport Elevations Above 10,000 Feet, Chapter 7—Supplements, of the Bombardier Global Express AFM, Publication No. CSP 700-1, Revision 107, dated February 22, 2021. (For obtaining the procedures for Bombardier Global Express AFM, Publication No. CSP 700-1, use Document Identification No. GL 700 AFM-1.)

• Unreliable Airspeed procedure, Section 03-12, Primary Flight Displays, Chapter 3—Emergency Procedures, of the Bombardier Global Express AFM, Publication No. CSP 700-1A, Revision 107, dated February 22, 2021. (For obtaining the procedures for Bombardier Global Express AFM, Publication No. CSP 700-1A, use Document Identification No. GL 700 AFM-1A.)

• Instruments procedure, Landing Distance Factors section, of the Emergency Procedures section of Supplement 20—Operations at Airport Elevations Above 10,000 Feet, Chapter 7—Supplements, of the Bombardier Global Express AFM, Publication No. CSP 700-1A, Revision 107, dated February 22, 2021. (For obtaining the procedures for Bombardier Global Express AFM, Publication No. CSP 700-1A, use Document Identification No. GL 700 AFM-1A.)

• Unreliable Airspeed procedure, Section 03-12, Primary Flight Displays, Chapter 3—Emergency Procedures, of the Bombardier Global 5000 AFM, Publication No. CSP 700-5000-1, Revision 68, dated February 22, 2021. (For obtaining the procedures for Bombardier Global 5000 AFM, Publication No. CSP 700-5000-1, use Document Identification No. GL 5000 AFM.)

• Instruments procedure, Landing Distance Factors section, of the Emergency Procedures section of Supplement 20—Operations at Airport Elevations Above 10,000 Feet, Chapter 7—Supplements, of the Bombardier Global 5000 AFM, Publication No. CSP 700-5000-1, Revision 68, dated February 22, 2021. (For obtaining the procedures for Bombardier Global 5000 AFM, Publication No. CSP 700-5000-1, use Document Identification No. GL 5000 AFM.)

• Unreliable Airspeed procedure, Section 03-12, Instruments System, Chapter 3—Emergency Procedures, of the Bombardier Global 5000 Featuring Global Vision Flight Deck AFM, Publication No. CSP 700-5000-1V, Revision 37, dated February 22, 2021. (For obtaining the procedures for Bombardier Global 5000 Featuring Global Vision Flight Deck AFM, Publication No. CSP 700-5000-1V, use Document Identification No. GL 5000 GVFD AFM.)

• Instruments procedure, Landing Distance Factors section, of the Emergency Procedures section of Supplement 20—Operations at Airport Elevations Above 10,000 Feet, Chapter 7—Supplements, of the Bombardier Global 5000 Featuring Global Vision Flight Deck AFM, Publication No. CSP 700-5000-1V, Revision 37, dated February 22, 2021. (For obtaining the procedures for Bombardier Global 5000 Featuring Global Vision Flight Deck AFM, Publication No. CSP 700-5000-1V, use Document Identification No. GL 5000 GVFD AFM.)

• Unreliable Airspeed procedure, Section 03-12, Instruments System, Chapter 3—Emergency Procedures, of the Bombardier Global 5500 AFM, Publication No. CSP 700-5500-1, Revision 8, dated November 11, 2020. (For obtaining the procedures for Bombardier Global 5500 AFM, Publication No. CSP 700-5500-1, use Document Identification No. GL 5500 AFM.)

• Unreliable Airspeed procedure, Section 03-12, Instruments System, Chapter 3—Emergency Procedures, of the Bombardier Global 6000 AFM, Publication No. CSP 700-1V, Revision 37, dated February 22, 2021. (For obtaining the procedures for Bombardier Global 6000 AFM, Publication No. CSP 700-1V, use Document Identification No. GL 6000 AFM.)

• Instruments procedure, Landing Distance Factors section, of the Emergency Procedures section of Supplement 20—Operations at Airport Elevations Above 10,000 Feet, Chapter 7—Supplements, of the Bombardier Global 6000 AFM, Publication No. CSP 700-1V, Revision 37, dated February 22, 2021. (For obtaining the procedures for Bombardier Global 6000 AFM, Publication No. CSP 700-1V, use Document Identification No. GL 6000 AFM.)

• Unreliable Airspeed procedure, Section 03-12, Instruments System, Chapter 3—Emergency Procedures of the Bombardier Global 6500 AFM, Publication No. CSP 700-6500-1, Revision 8, dated November 11, 2020. (For obtaining the procedures for Bombardier Global 6500 AFM, Publication No. CSP 700-6500-1, use Document Identification No. GL 6500 AFM.)

This service information is reasonably available because the interested parties have access to it through their normal course of business or by the means identified in the ADDRESSES section.

Costs of Compliance

The FAA estimates that this AD affects 395 airplanes of U.S. registry. The FAA estimates the following costs to comply with this AD:

Estimated Costs for Required Actions
Labor cost | Parts cost | Cost per product | Cost on U.S. operators
1 work-hour × $85 per hour = $85 | $0 | $85 | $33,575

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2022-13-05 Bombardier, Inc.: Amendment 39-22091; Docket No. FAA-2022-0453; Project Identifier MCAI-2020-01557-T.

(a) Effective Date

This airworthiness directive (AD) is effective August 11, 2022.

(b) Affected ADs

None.

(c) Applicability

This AD applies to Bombardier, Inc., Model BD-700-1A10 and BD-700-1A11 airplanes, certificated in any category, serial numbers (S/Ns) 9002 through 9998 inclusive, and S/Ns 60001 through 60027 inclusive.

(d) Subject

Air Transport Association (ATA) of America Code 34, Navigation.

(e) Unsafe Condition

This AD was prompted by reports of the loss of all air data system information provided to the flightcrew during flight; the air data system information was recovered as the airplanes descended to lower altitudes. The FAA is issuing this AD to address loss of all air data system information, which could lead to loss of continued safe flight and landing of the airplane.

(f) Compliance

Comply with this AD within the compliance times specified, unless already done.

(g) Revision of the Existing Airplane Flight Manual (AFM)

Within 30 days after the effective date of this AD: Revise the existing AFM to incorporate the information specified in the AFM sections and supplements, as applicable, of the AFM revisions specified in figure 1 to paragraph (g) of this AD.

(h) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or responsible Flight Standards Office, as appropriate. If sending information directly to the manager of the certification office, send it to ATTN: Program Manager, Continuing Operational Safety, FAA, New York ACO Branch, 1600 Stewart Avenue, Suite 410, Westbury, NY 11590; telephone 516-228-7300. Before using any approved AMOC, notify your appropriate principal inspector, or lacking a principal inspector, the manager of the responsible Flight Standards Office.

(2) Contacting the Manufacturer: For any requirement in this AD to obtain instructions from a manufacturer, the instructions must be accomplished using a method approved by the Manager, New York ACO Branch, FAA; or Transport Canada Civil Aviation (TCCA); or Bombardier, Inc.'s TCCA Design Approval Organization (DAO). If approved by the DAO, the approval must include the DAO-authorized signature.

(i) Related Information

(1) Refer to Mandatory Continuing Airworthiness Information (MCAI) TCCA AD CF-2020-50, dated November 20, 2020, for related information. This MCAI may be found in the AD docket at https://www.regulations.gov by searching for and locating Docket No. FAA-2022-0453.

(2) For more information about this AD, contact Chirayu Gupta, Aerospace Engineer, Mechanical Systems and Administrative Services Section, FAA, New York ACO Branch, 1600 Stewart Avenue, Suite 410, Westbury, NY 11590; telephone 516-228-7300; email 9-avs-nyaco-cos@faa.gov.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Unreliable Airspeed procedure, Section 03-12, Primary Flight Displays, Chapter 3—Emergency Procedures, of the Bombardier Global Express Airplane Flight Manual (AFM), Publication No. CSP 700-1, Revision 107, dated February 22, 2021.

Note 1 to paragraph (j)(2)(i): For obtaining the procedures specified in paragraphs (j)(2)(i) and (ii) of this AD for Bombardier Global Express AFM, Publication No. CSP 700-1, use Document Identification No. GL 700 AFM-1.

(ii) Instruments procedure, Landing Distance Factors section, of the Emergency Procedures section of Supplement 20—Operations at Airport Elevations Above 10,000 Feet, Chapter 7—Supplements, of the Bombardier Global Express AFM, Publication No. CSP 700-1, Revision 107, dated February 22, 2021.

(iii) Unreliable Airspeed procedure, Section 03-12, Primary Flight Displays, Chapter 3—Emergency Procedures, of the Bombardier Global Express AFM, Publication No. CSP 700-1A, Revision 107, dated February 22, 2021.

Note 2 to paragraph (j)(2)(iii): For obtaining the procedures specified in paragraphs (j)(2)(iii) and (iv) of this AD for Bombardier Global Express AFM, Publication No. CSP 700-1A, use Document Identification No. GL 700 AFM-1A.

(iv) Instruments procedure, Landing Distance Factors section, of the Emergency Procedures section of Supplement 20—Operations at Airport Elevations Above 10,000 Feet, Chapter 7—Supplements, of the Bombardier Global Express AFM, Publication No. CSP 700-1A, Revision 107, dated February 22, 2021.

(v) Unreliable Airspeed procedure, Section 03-12, Primary Flight Displays, Chapter 3—Emergency Procedures, of the Bombardier Global 5000 AFM, Publication No. CSP 700-5000-1, Revision 68, dated February 22, 2021.

Note 3 to paragraph (j)(2)(v): For obtaining the procedures specified in paragraphs (j)(2)(v) and (vi) of this AD for Bombardier Global 5000 AFM, Publication No. CSP 700-5000-1, use Document Identification No. GL 5000 AFM.

(vi) Instruments procedure, Landing Distance Factors section, of the Emergency Procedures section of Supplement 20—Operations at Airport Elevations Above 10,000 Feet, Chapter 7—Supplements, of the Bombardier Global 5000 AFM, Publication No. CSP 700-5000-1, Revision 68, dated February 22, 2021.

(vii) Unreliable Airspeed procedure, Section 03-12, Instruments System, Chapter 3—Emergency Procedures, of the Bombardier Global 5000 Featuring Global Vision Flight Deck AFM, Publication No. CSP 700-5000-1V, Revision 37, dated February 22, 2021.

Note 4 to paragraph (j)(2)(vii): For obtaining the procedures specified in paragraphs (j)(2)(vii) and (viii) of this AD for Bombardier Global 5000 Featuring Global Vision Flight Deck AFM, Publication No. CSP 700-5000-1V, use Document Identification No. GL 5000 GVFD AFM.

(viii) Instruments procedure, Landing Distance Factors section, of the Emergency Procedures section of Supplement 20—Operations at Airport Elevations Above 10,000 Feet, Chapter 7—Supplements, of the Bombardier Global 5000 Featuring Global Vision Flight Deck AFM, Publication No. CSP 700-5000-1V, Revision 37, dated February 22, 2021.

(ix) Unreliable Airspeed procedure, Section 03-12, Instruments System, Chapter 3—Emergency Procedures, of the Bombardier Global 5500 AFM, Publication No. CSP 700-5500-1, Revision 8, dated November 11, 2020.

Note 5 to paragraph (j)(2)(ix): For obtaining the procedure specified in paragraph (j)(2)(ix) of this AD for Bombardier Global 5500 AFM, Publication No. CSP 700-5500-1, use Document Identification No. GL 5500 AFM.

(x) Unreliable Airspeed procedure, Section 03-12, Instruments System, Chapter 3—Emergency Procedures, of the Bombardier Global 6000 AFM, Publication No. CSP 700-1V, Revision 37, dated February 22, 2021.

Note 6 to paragraph (j)(2)(x): For obtaining the procedures specified in paragraphs (j)(2)(x) and (xi) of this AD for Bombardier Global 6000 AFM, Publication No. CSP 700-1V, use Document Identification No. GL 6000 AFM.

(xi) Instruments procedure, Landing Distance Factors section, of the Emergency Procedures section of Supplement 20—Operations at Airport Elevations Above 10,000 Feet, Chapter 7—Supplements, of the Bombardier Global 6000 AFM, Publication No. CSP 700-1V, Revision 37, dated February 22, 2021.

(xii) Unreliable Airspeed procedure, Section 03-12, Instruments System, Chapter 3—Emergency Procedures, of the Bombardier Global 6500 AFM, Publication No. CSP 700-6500-1, Revision 8, dated November 11, 2020.

Note 7 to paragraph (j)(2)(xii): For obtaining the procedure specified in paragraph (j)(2)(xii) of this AD for Bombardier Global 6500 AFM, Publication No. CSP 700-6500-1, use Document Identification No. GL 6500 AFM.

(3) For service information identified in this AD, contact Bombardier Business Aircraft Customer Response Center, 400 Côte-Vertu Road West, Dorval, Québec H4S 1Y9, Canada; telephone 1-514-855-2999; email ac.yul@aero.bombardier.com; internet https://www.bombardier.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: https://www.archives.gov/federal-register/cfr/ibr-locations.html.

Issued on June 13, 2022.
Christina Underwood,
Acting Director, Compliance & Airworthiness Division, Aircraft Certification Service.

[FR Doc. 2022-14274 Filed 7-6-22; 8:45 am]

BILLING CODE 4910-13-P